DEPARTMENT OF TRANSPORTATION

Federal Motor Carrier Safety Administration

[Docket No. FMCSA-2006-23598]

Notice of Request for Comments on Extension of a Currently Approved Collection of Information: Inspection, Repair, and Maintenance

AGENCY: Federal Motor Carrier Safety Administration (FMCSA), DOT.

ACTION: Notice and request for comments.

SUMMARY: In accordance with the Paperwork Reduction Act of 1995, FMCSA announces its plan to submit the Information Collection Request (ICR) described below to the Office of Management and Budget (OMB) for review and approval. The ICR describes a currently approved information collection activity and its expected cost and burden. On October 19, 2005, FMCSA published a Federal Register notice allowing for a 60-day comment period on the ICR. No comments were received.

DATES: Please send your comments by March 17, 2006. OMB must receive your comments by this date in order to act quickly on the ICR.

ADDRESSES: Send comments to the Office of Information and Regulatory Affairs, Office of Management and Budget, 725 Seventeenth Street, NW., Washington, DC 20503, Attention: DOT/FMCSA Desk Officer.

FOR FURTHER INFORMATION CONTACT: Mr. Jeffrey Van Ness, (202) 366-8802, Vehicle and Roadside Operations Division (MC-PSV), Federal Motor Carrier Safety Administration, U.S. Department of Transportation, 400 Seventh Street, SW., Washington, DC 20590. Office hours are from 8 a.m. to 5 p.m., e.t., Monday through Friday, except Federal holidays.

SUPPLEMENTARY INFORMATION: Title: Inspection, Repair, and Maintenance.

OMB Control Number: 2126-0003.

Type of Request: Renewal of an existing information collection.

Background: The Secretary of Transportation (Secretary) is authorized under the provisions of 49 U.S.C. 31502 to prescribe requirements for qualifications and maximum hours-of-service of employees, and safety and equipment standards for motor carriers that operate commercial motor vehicles (CMVs) in interstate commerce. Under 49 U.S.C. 31136, the Secretary also has authority to prescribe regulations to ensure that CMVs are maintained, equipped, loaded and operated safely; and under 49 U.S.C. 31143 to establish standards for annual or more frequent inspections of CMVs under the provisions of U.S.C. 31142. The Secretary's authority to establish improved standards or methods to ensure brakes and brake systems of CMVs are inspected by appropriate employees and maintained properly is provided under 49 U.S.C. 31137(b).

Motor carriers must maintain, or require maintenance of, records documenting the inspection, repair and maintenance activities performed on their owned and leased vehicles. There are no prescribed forms to meet these requirements. Electronic recordkeeping is allowed (See 49 CFR 390.31(d)). Documents requiring a signature must be capable of replication (i.e., photocopy, facsimile, etc.) in such form that will provide an opportunity for signature verification upon demand. If computer records are used, all of the relevant data on the original documents must be included in the electronic transmission for the records to be valid. The records are used by the FMCSA and its representatives to verify motor carriers' compliance with the inspection, repair, and maintenance standards in 49 CFR part 396 of the Federal Motor Carrier Safety Regulations (FMCSRs).

Respondents: Motor carriers, and commercial motor vehicle drivers.

Estimated Number of Respondents: 678,535 motor carriers.

Frequency of Response: Annual and on occasion.

Estimated Total Annual Burden: 59,093,244. Adjustments from the October 19, 2005, Federal Register notice reflect that FMCSA needs to correct several arithmetic errors made in computing burden estimates in the past, primarily for computing burden estimates for the driver-vehicle inspection report. In addition, 325,795 interstate motor carriers operate one CMV only, and thus are not required to prepare daily driver vehicle inspection reports. Consequently, these carriers are no longer included in the computation of burden hours relating to: (a) The Certification of Corrective Action, and (b) the Review and Signature of Driver Vehicle Inspection Reports. These differences, in aggregate, total 24,294,988 burden hours.

We particularly request comments on: Whether the collection of information is necessary for FMCSA to meet its goal of reducing truck crashes and its usefulness to this goal; the accuracy of the estimate of the burden of the information collection; ways to enhance the quality, utility and clarity of the information collected; and ways to minimize the burden of the collection of information on respondents, including using automated collection techniques or other forms of information technology.

Issued on: February 9, 2006.
Annette M. Sandberg,
Administrator.

[FR Doc. E6-2169 Filed 2-14-06; 8:45 am]

BILLING CODE 4910-EX-P